ENVIRONMENTAL PROTECTION AGENCY

[FRL OP-OFA-142]

Environmental Impact Statements; Notice of Availability

Responsible Agency: Office of Federal Activities, General Information 202-564-5632 or https://www.epa.gov/nepa.

Weekly receipt of Environmental Impact Statements (EIS)

Filed August 26, 2024 10 a.m. EST Through August 30, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240155, Final, USFWS, AZ, ADOPTION—Four-Forest Restoration Initiative Coconino and Kaibab National Forests, Review Period Ends: 10/07/2024, Contact: Nicole Jimenez 505-248-7466.

The Fish and Wildlife Service (USFWS) has adopted the Department of Agriculture's Final EIS No. 20140346 filed 11/28/2014 with the Environmental Protection Agency. The USFWS was not a cooperating agency on this project. Therefore, republication of the document is necessary under Section 1506.3(b)(1) of the CEQ regulations.

EIS No. 20240156, Final, GSA, AK, Alcan Land Port of Entry Expansion and Modernization Final Environmental Impact Statement Alcan, Alaska, Review Period Ends: 10/07/2024, Contact: Aaron Evanson 206-445-5876.

EIS No. 20240157, Draft, BLM, NV, Bonanza Solar Project, Comment Period Ends: 12/05/2024, Contact: Brian L. Buttazoni 775-861-6491.

EIS No. 20240158, Draft, OSM, MT, Spring Creek Mine, Comment Period Ends: 10/21/2024, Contact: Marcelo Calle 303-236-2929.

EIS No. 20240159, Final, NOAA, CA, Chumash Heritage National Marine Sanctuary, Review Period Ends: 10/07/2024, Contact: Laura Ingulsrud 831-583-8857.

EIS No. 20240160, Final, USFS, ID, Stibnite Gold Project, Review Period Ends: 10/07/2024, Contact: Richard Rymerson 505-632-2956.

EIS No. 20240161, Draft, NRC, OH, Generic Environmental Impact Statement for License Renewal of Nuclear Plants, Supplement 61, Regarding Perry Nuclear Power Plant, Unit 1, Draft Report (NUREG-1437), Comment Period Ends: 10/21/2024, Contact: Lance Rakovan 301-415-2589.

Dated: August 30, 2024.
Timothy Witman,
Acting Director, NEPA Compliance Division, Office of Federal Activities.

[FR Doc. 2024-20091 Filed 9-5-24; 8:45 am]

BILLING CODE 6560-50-P